UNITED STATES INSTITUTE OF PEACE

Call for Proposals for a Micro Support Program on International Conflict Resolution and Peacebuilding For Immediate Release

AGENCY: United States Institute of Peace.

ACTION: Notice.

SUMMARY: Micro Support Program on International Conflict Resolution and Peacebuilding. The United States Institute of Peace (USIP) requests proposals to develop and manage a new micro support initiative for projects undertaken at institutions of higher learning and public libraries in the United States. The program will require the contractor to design and implement a formal competition, review and recommend projects for funding, and provide financial and report management oversight.

Deadline: Friday, May 11, 2012 at 3 p.m. EDT.

DATES: Response Deadline: Friday, May 11, 2012 at 3 p.m. EDT

April 16, 2012—Issue Request for Proposals

May 11, 2012—RFP submissions due by 3 p.m.

May 14-25, 2012—Review submissions and selection of successful organization

May 29, 2012—Announce results of selection process.

ADDRESSES: United States Institute of Peace, 2301 Constitution Avenue NW., Washington, DC 20037, (202) 429-3842 (phone), (202) 833-1018 (fax), (202) 457-1719 (TTY), Email: grants@usip.org.

FOR FURTHER INFORMATION CONTACT: The Grant Program • Micro Support Program, Phone (202) 429-3842, Email: grants@usip.org.

Dated: April 17, 2012.
Michael Graham,
Senior Vice President for Management.

[FR Doc. 2012-9822 Filed 4-24-12; 8:45 am]

BILLING CODE 6820-AR-P